DEPARTMENT OF AGRICULTURE

Forest Service

Sierra County, CA, Resource Advisory Committee

AGENCY: Forest Service, USDA

ACTION: Notice of meeting.

SUMMARY: The Sierra County Resource Advisory Committee (RAC) will meet on May 6, 2002, in Sierraville, California. The purpose of the meeting is to discuss issues relating to implementing the Secure Rural Schools and Community Self-Determination Act of 2000 (Payments to States) and the expenditure of Title II funds benefiting National Forest System lands on the Humboldt-Toiyabe, Plumas and Tahoe National Forests in Sierra County.

DATES: The meeting will be held May 6, 2002 from 1:30 p.m. to 4:30 p.m. If a storm or other difficulty presents itself, a backup meeting date is scheduled for May 13, 2002, at the same time and location.

ADDRESSES: The meeting will be held at the Forest Service Ranger District Office, Hwy 89 North, Sierraville, CA.

FOR FURTHER INFORMATION CONTACT: Ann Westling, Committee Coordinator, USDA, Tahoe National Forest, 631 Coyote St, Nevada City, CA, 95959, (530) 478-6205, E-Mail: awestling@fs.fed.us.

SUPPLEMENTARY INFORMATION: Agenda items to be covered include: (1) Welcome and introductions; (2) review of previous meeting; and (3) discussion and ranking of project ideas. The meeting is open to the public and the public will have an opportunity to comment at the meeting.

Dated: April 18, 2002.
Steven T. Eubanks,
Forest Supervisor.

[FR Doc. 02-10091 Filed 4-24-02; 8:45 am]

BILLING CODE 3410-11-M